DEPARTMENT OF THE INTERIOR

Geological Survey

Request for Public Comments on a Proposed New Information Collection Submitted to OMB for Review Under the Paperwork Reduction Act

A proposal extending information collection described below has been submitted to the Office of Management and Budget for approval under the provisions of the Paperwork Reduction Act (44 U.S.C. Chapter 35). Copies of the proposed collection of information may be obtained by contacting the Bureau's clearance officer at the phone number listed below. OMB has up to 60 days to approve or disapprove the information collection but may respond after 30 days; therefore, public comments should be submitted to OMB within 30 days in order to assure their maximum consideration. Address your comments and suggestions on the proposal by fax (202) 395-6566 or e-mail (oira_docket@omb.eop.gov) to the Office of Information and Regulatory Affairs, Office of Management and Budget, Attention: Desk Officer for the Interior Department. Send copies of your comments to Phadrea Ponds, U.S. Geological Survey, 2150 Centre Avenue Building C, Fort Collins, CO 80526-8118 or e-mail (phadrea_ponds@usgs.gov).

As required by OMB regulations at 5 CFR 1320.8(d)(1), the USGS solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Community Survey of Rappahannock River Valley Residents.

OMB Approval No.: New collection.

Summary: This information collection is in support of development of a Comprehensive Conservation Plan for Rappahannock National Wildlife Refuge. Under the National Wildlife Refuge System Improvement Act of 1997, all national wildlife refuges are required to develop a Comprehensive Conservation Plan (CCP). A CCP is a document that provides a framework for guiding refuge management decisions. This planning process ensures the opportunity for active public involvement in the preparation and revision of comprehensive conservation plans. This information collection will inform the planning process by providing information to the U.S. Fish and Wildlife Service on the attitudes and opinions of local residents regarding Rappahannock National Wildlife Refuge and its management.

Estimated Completion Time: 25 minutes.

Estimated Annual Number of Respondents: 650.

Frequency: One time.

Estimated Annual Burden Hours: 271 hours.

Affected Public: Residents adjacent to the Rappahannock River Basin, Virginia.

For Further Information Contact: To obtain copies of the survey, contact Phadrea Ponds, U.S. Geological Survey, 2150 Centre Avenue Building C, Fort Collins, CO 80526-8118, telephone 970-226-9445.

Dated: December 27, 2005.
Carol Cooper,
Acting Associate Director for Biology.

[FR Doc. 06-1764 Filed 2-24-06; 8:45 am]

BILLING CODE 4311-AM-M